DEPARTMENT OF LABOR

Occupational Safety and Health Administration

[Docket No. OSHA-2012-0022]

Federal Advisory Council on Occupational Safety and Health (FACOSH)

AGENCY: Occupational Safety and Health Administration (OSHA), Labor.

ACTION: Request for nominations to serve on the Federal Advisory Council on Occupational Safety and Health (FACOSH).

SUMMARY: The Assistant Secretary of Labor for Occupational Safety and Health invites interested individuals to submit nominations for membership on FACOSH.

DATES: Nominations for FACOSH must be submitted (postmarked, sent, transmitted, or received) by September 4, 2012.

ADDRESSES: You may submit nominations and supporting materials, which you must identify by the Docket Number for this Federal Register notice (Docket No. OSHA-2012-0022), by one of the following methods:

Electronically: You may submit nominations, including attachments, electronically at http://www.regulations.gov, the federal e-Rulemaking portal. Follow the online instructions for submitting nominations;

Facsimile: If your nomination and supporting materials and attachments, do not exceed 10 pages, you may Fax them to the OSHA Docket Office at (202) 693-1648;

Mail, express delivery, hand delivery, messenger or courier service: You may send nominations and supporting materials to the OSHA Docket Office, Docket No. OSHA-2012-0022, Room N-2625, U.S. Department of Labor, 200 Constitution Avenue NW., Washington, DC 20210; telephone (202) 693-2350 (TTY number (877) 889-5627). Deliveries by hand, express mail, messenger, and courier service are accepted during the Department of Labor's and OSHA Docket Office's normal business hours, 8:15 a.m.-4:45 p.m., e.t.

For Additional Information

For press inquiries: Mr. Francis Meilinger, OSHA, Office of Communications, Room N-3647, U.S. Department of Labor, 200 Constitution Avenue NW., Washington, DC 20210; telephone (202) 693-1999; email: meilinger.francis2@dol.gov.

For general information: Mr. Francis Yebesi, OSHA, Office of Federal Agency Programs, Directorate of Enforcement Programs, Room N-3622, U.S. Department of Labor, 200 Constitution Avenue NW., Washington, DC 20210; telephone (202) 693-2122; email: ofap@dol.gov.

SUPPLEMENTARY INFORMATION: The Assistant Secretary of OSHA invites interested individuals to submit nominations for membership on FACOSH.

Background. FACOSH is authorized to advise the Secretary of Labor (Secretary) on all matters relating to the occupational safety and health of federal employees (Occupational Safety and Health Act of 1970 (29 U.S.C. 668), 5 U.S.C. 7902, Executive Orders 12196 and 13511). This includes providing advice on how to reduce and keep to a minimum the number of injuries and illnesses in the federal workforce and how to encourage the establishment and maintenance of effective occupational safety and health programs in each federal agency.

FACOSH membership. FACOSH is comprised of 16 members, who the Secretary appoints to staggered terms not to exceed 3 years. OSHA is seeking nominations to fill six positions on FACOSH that will become vacant on January 1, 2013.

The categories of FACOSH membership and the number of new members to be appointed to three-year terms include:

• Eight members are federal agency management representatives—Three management representatives will be appointed.

• Eight members are representatives of labor organizations that represent federal employees—Three federal employee representatives will be appointed.

FACOSH members serve at the pleasure of the Secretary unless the member is no longer qualified to serve, resigns, or is removed by the Secretary. The Secretary may appoint FACOSH members to successive terms. FACOSH meets at least two times a year.

The Department of Labor is committed to equal opportunity in the workplace and seeks broad-based and diverse FACOSH membership. Any interested federal agency, labor organization, or person(s) may nominate one or more qualified persons for membership on FACOSH. Interested individuals also are invited and encouraged to submit statements in support of particular nominees.

Nomination requirements. Submission of nominations must include the following information:

1. The nominee's name, contact information and current occupation or position;

2. The nominee's resume or curriculum vitae, including prior membership on FACOSH and other relevant organizations, associations and committees;

3. Category of membership (management, labor) the nominee is qualified to represent;

4. A summary of the nominee's background, experience and qualifications that address the nominee's suitability for FACOSH membership;

5. Articles or other documents the nominee has authored that indicate the nominee's knowledge, experience, and expertise in occupational safety and health, particularly as it pertains to the federal workforce; and

6. A statement that the nominee is aware of the nomination, is willing to regularly attend and participate in FACOSH meetings, and has no apparent conflicts of interest that would preclude membership on FACOSH.

Member selection. The Secretary will appoint FACOSH members based upon criteria that include the nominee's level of responsibility for occupational safety and health matters involving the federal workforce; experience and competence in occupational safety and health; and willingness and ability to regularly and fully participate in FACOSH meetings. Federal agency management nominees who serve as their agency's Designated Agency Safety and Health Official (DASHO) or at an equivalent level of responsibility within their respective federal agencies are preferred as management members. Labor nominees who are responsible for federal employee occupational safety and health matters within their respective labor organizations are preferred as labor members.

The information received through the nomination process, along with other relevant sources of information, will assist the Secretary in making appointments to FACOSH. In selecting FACOSH members, the Secretary will consider individuals nominated in response to this Federal Register notice, as well as other qualified individuals. Once appointed, OSHA will publish a list of the new FACOSH members in the Federal Register.

Public Participation

Instructions for submitting nominations. Interested individuals may submit nominations and supplemental materials using one of the methods listed in the ADDRESSES section. All nominations, attachments and other materials must identify the Agency/labor organization name, and the OSHA docket number for this Federal Register notice, (Docket No. OSHA-2012-0022). You may supplement electronic nominations by uploading document files electronically. If, instead, you wish to mail additional materials in reference to an electronic or FAX submission, you must submit them to the OSHA Docket Office, (see ADDRESSES section). The additional material must clearly identify your electronic nomination by Agency/labor organization name, and docket number (Docket No. OSHA-2012-0022) so that the materials can be attached to the electronic submission.

Because of security-related procedures, the use of regular mail may cause a significant delay in the receipt of nominations. For information about security procedures concerning the delivery of materials by hand, express delivery, messenger or courier service, please contact the OSHA Docket Office (see ADDRESSES section).

All submissions in response to this Federal Register notice are posted without change at http://www.regulations.gov. Therefore, OSHA cautions interested parties about submitting personal information, such as Social Security numbers and birth dates. Guidance on submitting nominations and materials in response to this Federal Register notice is available at http://www.regulations.gov and from the OSHA Docket Office.

Access to docket and other materials. To read or download nominations and additional materials submitted in response to this Federal Register notice, go to Docket No. OSHA-2012-0022 at http://www.regulations.gov. All submissions are listed in the http://www.regulations.gov index. However, some documents (e.g., copyrighted material) are not publicly available to read or download through that Web page. All submissions, including copyrighted material, are available for inspection and copying at the OSHA Docket Office. Contact the OSHA Docket Office for information about materials not available through http://www.regulations.gov and for assistance in using the Internet to locate submissions.

Electronic copies of this Federal Register notice are available at http://www.regulations.gov. This document, as well as news releases and other relevant information, also is available at OSHA's Web page at http://www.osha.gov.

Authority and Signature

David Michaels, Ph.D., MPH, Assistant Secretary of Labor for Occupational Safety and Health, directed the preparation of this notice under the authority granted by section 19 of the Occupational Safety and Health Act of 1970 (29 U.S.C. 668), 5 U.S.C. 7902, the Federal Advisory Committee Act (5 U.S.C. App, 2), Executive Order 12196 and 13511, Secretary of Labor's Order 1-2012 (77 FR 3912, 1/25/2012), 29 CFR part 1960 (Basic Program Elements of for Federal Employee Occupational Safety and Health Programs), and 41 CFR part 102-3.

Signed at Washington, DC, on June 28, 2012.
David Michaels,
Assistant Secretary of Labor for Occupational Safety and Health.

[FR Doc. 2012-16468 Filed 7-3-12; 8:45 am]

BILLING CODE 4510-26-P